DEPARTMENT OF AGRICULTURE

Submission for OMB Review; Comment Request

February 15, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR Part 225, Summer Food Service Program.

OMB Control Number: 0584-0280.

Summary of Collection: Section 13 of the National School Lunch Act, as amended, 42 U.S.C. 1761, authorizes the Summer Food Service Program (SFSP). The SFSP provides assistance to States to initiate and maintain nonprofit food service programs for needy children during the summer months and at other approved times. Under the program, a sponsor receives reimbursement for serving nutritious, well-balanced meals to eligible children at the food service sites. Information is gathered from State agencies and other organizations wishing to participate in the program to determine eligibility. FNS will use FNS-418 form to collect information.

Need and Use of the Information: FNS uses the information collected to determine an organization's eligibility and to monitor program performance for compliance and reimbursement purposes.

Description of Respondents: Individuals or household; Farms; Not-for-profit institutions; State, Local, or Tribal Government.

Number of Respondents: 106,187.

Frequency of Responses: Recordkeeping; Reporting: On occasion; Quarterly; Annually.

Total Burden Hours: 175,391.

Food and Nutrition Service

Title: Federal Collection Methods for Supplemental Nutrition Assistance Program Recipient.

OMB Control Number: 0584-0446.

Summary of Collection: Section 13(b) of the Food and Nutrition Act of 2008 (The Act) and Supplemental Nutrition Assistance Program (SNAP) regulations at 7 CFR 273.18 require State agencies to refer delinquent debtors for SNAP benefit over-issuance to the U.S. Department of Treasury for collection. The Debt Collection Improvement Act of 1996, 31 U.S.C. 3701, et seq., requires these debts to be referred to Treasury for collection when they are 180 days or more delinquent. Through the Treasury Offset Program (TOP), 31 CFR Part 285, payments such as Federal income tax refunds, Federal salaries and other Federal payments payable to these delinquent debtors will be offset and the amount applied to the delinquent debt.

Need and Use of the Information: The information collected is used by individuals or households to obtain due process before debts are referred to TOP for offset. State agencies will use the collected information to provide due process to individuals/households; to add and maintain debts in TOP; to request addresses; and to certify to Treasury the accuracy and legality of debts that are submitted to TOP. Without the information, compliance with the DCIA would not be possible and departmental participation in TOP would be jeopardized.

Description of Respondents: State, Local, or Tribal Government; Individual or households.

Number of Respondents: 240,954.

Frequency of Responses: Recordkeeping; Reporting: On occasion; Annually.

Total Burden Hours: 47,601.

Ruth Brown,
Departmental Information Collection Clearance Officer.

[FR Doc. 2013-03975 Filed 2-20-13; 8:45 am]

BILLING CODE 3410-30-P